DEPARTMENT OF ENERGY

Office of Energy Efficiency and Renewable Energy

Comments on Draft Roadmap on Manufacturing Research and Development for the Hydrogen Economy

AGENCY: Office of Energy Efficiency and Renewable Energy, Department of Energy (DOE).

ACTION: Notice and request for comment.

SUMMARY: The Department of Energy requests comment on its draft Roadmap on Manufacturing Research and Development (R&D) for the Hydrogen Economy. This draft roadmap is designed to guide research and development of manufacturing processes to reduce the cost and enhance the reliability of critical hydrogen and fuel cell components and systems.

DATES: The draft roadmap will be open for public comment until April 24, 2006.

ADDRESSES: The draft roadmap is available at http://www.hydrogen.energy.gov. Address all comments on this roadmap via the Web site at http://www.hydrogen.energy.gov/manufacturing_form.html.

FOR FURTHER INFORMATION CONTACT: Dr. JoAnn Milliken, U.S. Department of Energy, Office of Energy Efficiency and Renewable Energy, Mail Station EE-2H, Attn: JoAnn Milliken, 1000 Independence Avenue, SW., Washington, DC 20585-0121, Phone: (202) 586-2480, e-mail JoAnn.Milliken@ee.doe.gov.

SUPPLEMENTARY INFORMATION: The mission of DOE's Hydrogen, Fuel Cells and Infrastructure Technologies Program is to research, develop and validate fuel cell and hydrogen production, delivery, and storage technologies. Hydrogen from diverse domestic resources will then be used in a clean, safe, reliable, and affordable manner in fuel cell vehicles and stationary power applications. Development of hydrogen energy will ensure that the United States has an abundant, reliable, and affordable supply of clean energy to maintain the Nation's prosperity throughout the 21st century.

The President established the Hydrogen Fuel Initiative and the Manufacturing Initiative to meet critical national needs that involve energy security, environmental quality, and economic well-being. The Hydrogen Fuel Initiative aims to reverse America's growing dependence on imported oil by developing the technology needed for commercially viable hydrogen-powered fuel cells. The Manufacturing Initiative, which addresses the entire manufacturing sector in the United States, will strengthen American manufacturing, create new jobs, and help U.S. manufacturers become more competitive in the global marketplace. The Roadmap on Manufacturing R&D for the Hydrogen Economy describes activities at the intersection of these two initiatives. Manufacturing covers a broad range of components and systems related to hydrogen production and delivery, fuel cells, and hydrogen storage. The transition to a hydrogen economy will take decades. Significant challenges must be overcome to move from today's components and systems, built using laboratory-scale fabrication technologies, to high-volume commercially manufactured products. Essential manufacturing needs for the initial transition to a hydrogen economy include distributed production and delivery, on-board vehicle storage, and polymer electrolyte membrane fuel cells.

The roadmap identifies the challenges to manufacturing the hydrogen production, storage, and fuel cell technologies that will be required for the initial transition to the hydrogen economy. R&D of manufacturing processes will play a pivotal role in reducing cost of hydrogen technologies and in building the supplier base needed to move the U.S. toward a clean and sustainable energy future.

Based on the results of a July 2005 workshop, the roadmap consolidates recommendations of hydrogen and fuel cell experts from industry, universities, and national laboratories. Led by the DOE and the National Institute of Standards and Technology, the workshop and roadmap are the result of a collaboration of the Interagency Working Group on Manufacturing R&D established through the President's National Science and Technology Council. See the press release from Energy Secretary Samuel W. Bodman at http://www.energy.gov/print/3098.htm. The roadmap is posted on the Internet at the Web site identified in the ADDRESSES section of this notice.

The goal of the DOE Hydrogen Program is to develop the technology needed for commercially viable hydrogen-powered fuel cells by 2015. Through public-private partnerships, the DOE is working to reduce the cost and enhance the durability of hydrogen technologies to enable industry to put fuel cell vehicles in the showroom and provide hydrogen at refueling stations by 2020.

For more information about the DOE Hydrogen Program, visit http://www.hydrogen.energy.gov.

Issued in Washington, DC, on February 17, 2006.
Douglas L. Faulkner,
Acting Assistant Secretary, Energy Efficiency and Renewable Energy.

[FR Doc. 06-1704 Filed 2-22-06; 8:45 am]

BILLING CODE 6450-01-P